SMALL BUSINESS ADMINISTRATION

[Declaration of Disaster #3452, Amdt. #2]

State of Louisiana

In accordance with a notice received from the Federal Emergency Management Agency, dated October 17, 2002, the above numbered declaration is hereby amended to include Allen, East Baton Rouge, East Feliciana, Pointe Coupee, Rapides, St. Helena, Washington and West Baton Rouge Parishes in the State of Louisiana as disaster areas due to damages caused by Hurricane Lili beginning on October 1, 2002, and continuing through October 16, 2002.

In addition, applications for economic injury loans from small businesses located in Grant and Natchitoches Parishes in Louisiana; and Marion, Walthall and Wilkinson Counties in Mississippi may be filed until the specified date at the previously designated location. All other counties contiguous to the above named primary county have been previously declared.

All other information remains the same, i.e., the deadline for filing applications for physical damage is December 2, 2002, and for economic injury the deadline is July 3, 2003.

(Catalog of Federal Domestic Assistance Program Nos. 59002 and 59008)
Dated: October 21, 2002.
Herbert L. Mitchell,
Associate Administrator for Disaster Assistance.

[FR Doc. 02-27358 Filed 10-25-02; 8:45 am]

BILLING CODE 8025-01-P